ENVIRONMENTAL PROTECTION AGENCY

[OPP-34234; FRL-6739-6]

Organophosphate Pesticides; Availability of Interim Risk Management Decision Documents

AGENCY: Environmental Protection Agency (EPA).

ACTION: Notice.

SUMMARY: This notice announces the availability of the interim risk management decision documents for three organophosphate pesticides, bensulide, cadusafos, and chlorethoxyfos. These decision documents have been developed as part of the public participation process that EPA and the United States Department of Agriculture (USDA) are now using for involving the public in the reassessment of pesticide tolerances under the Food Quality Protection Act (FQPA), and the reregistration of individual organophosphate pesticides under the Federal Insecticide, Fungicide, and Rodenticide Act (FIFRA).

DATES: The interim risk management decision documents are available in the OPP Docket under docket control OPP-34234, OPP-34132C for bensulide, OPP-34142B for cadusafos, and OPP-34170B for chlorethoxyfos.

FOR FURTHER INFORMATION CONTACT: Karen Angulo, Special Review and Reregistration Division (7508W), Office of Pesticide Programs, Environmental Protection Agency, 1200 Pennsylvania Ave., NW., Washington, DC 20460; telephone number: (703) 308-8004; e-mail address: angulo.karen@epa.gov.

SUPPLEMENTARY INFORMATION:

I. General Information

A. Does this Action Apply to Me?

This action is directed to the public in general, nevertheless, a wide range of stakeholders will be interested in obtaining the interim risk management decision documents for bensulide, cadusafos, and chlorethoxyfos, including environmental, human health, and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. On the Home Page select “Laws and Regulations”,” Regulations and Proposed Rules, and then look up the entry for this document under the Federal Register—Environmental Documents. You can also go directly to the Federal Registerlistings at http://www.epa.gov/fedrgstr/. In addition, copies of the pesticide interim risk management decision documents released to the public may also be accessed at http: www.epa.gov/REDs.

2. In person. The Agency has established an official record for this action under docket control OPP-34234, OPP-34132C for bensulide, OPP-34142B for cadusafos, and OPP-34170B for chlorethoxyfos. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

What Action is the Agency Taking?

EPA has assessed the risks of bensulide and reached an Interim Reregistration Eligibility Decision (IRED) for this organophosphate pesticide. With the risk mitigation measures required, bensulide fits into its own risk cup — its individual, aggregate risks are within acceptable levels. Bensulide also is eligible for reregistration, pending a full reassessment of the cumulative risk from all organophosphate pesticides. Bensulide residues in food and drinking water do not pose risk concerns. With mitigation limiting homeowners' and children's exposure via home lawns and other turf, bensulide fits into its own risk cup. With other mitigation measures, bensulide's worker and ecological risks also will be below levels of concern for reregistration.

EPA has assessed the dietary risks of cadusafos and chlorethoxyfos and prepared for each of these organophosphate pesticides a “Report on FQPA Tolerance Reassessment Progress and Interim Risk Management Decision.” Cadusafos and chlorethoxyfos fit into their own risk cups and their individual risks are within acceptable levels. Cadusafos has no U.S. registrations and only one import tolerance on bananas. Cadusafos-treated bananas do not pose risk concerns, and no risk mitigation is necessary at this time. Chlorethoxyfos was initially registered after 1984, therefore it is not subject to reregistration. The use of chlorethoxyfos on corn does not pose risk concerns and risk mitigation is not necessary at this time.

The interim risk management decision documents on bensulide, cadusafos, and chlorethoxyfos were made through the organophosphate pilot public participation process, which increases transparency and maximizes stakeholder involvement in EPA's development of risk assessments and risk management decisions. The pilot public participation process was developed as part of the EPA-USDA Tolerance Reassessment Advisory Committee (TRAC), which was established in April 1998, as a subcommittee under the auspices of EPA's National Advisory Council for Environmental Policy and Technology. A goal of the pilot public participation process is to find a more effective way for the public to participate at critical junctures in the Agency's development of organophosphate pesticide risk assessments and risk management decisions. EPA and USDA began implementing this pilot process in August 1998, to increase transparency and opportunities for stakeholder consultation.

EPA worked extensively with affected parties to reach the decisions presented in the interim risk management decision documents, which concludes the pilot public participation process for bensulide, cadusafos, and chlorethoxyfos. As part of the pilot public participation process, numerous opportunities for public comment were offered as these interim risk management decisions were being developed. The bensulide, cadusafos, and chlorethoxyfos interim risk management decision documents therefore are issued in final, without a formal public comment period. The docket remains open, however, and any comments submitted in the future will be placed in the public docket.

The risk assessments for bensulide, cadusafos, and chlorethoxyfos were released to the public through notices in the Federal Register on June 16, 1999, 64 FR 32229 (FRL-6087-9) and August 12, 1998, 63 FR 43175 (FRL-6024-3) for bensulide; September 9, 1998, 63 FR 48213 (FRL-6030-2) and July 7, 1999, 64 FR 36683 (FRL-6091-2) for cadusafos; and January 15, 1999, 64 FR 2644 (FRL-6056-9) and August 18, 1999 64 FR 44921 (FRL-6095-3) for chlorethoxyfos.

EPA's next step under the FQPA is to complete a cumulative risk assessment and risk management decision encompassing all the organophosphate pesticides, which share a common mechanism of toxicity. The interim risk management decision documents on bensulide, cadusafos, and chlorethoxyfos cannot be considered final until this cumulative assessment is complete. Further risk mitigation may be required at that time.

To effect risk mitigation as quickly as possible, time frames for making the changes required by the interim risk management decision documents are shorter than those in a usual Reregistration Eligibility Decision. The Agency is requiring that all labels must be amended to include the above mitigation and submitted to the Agency within 90 days after issuance of the interim risk management decision documents. When the cumulative risk assessment for all organophosphate pesticides has been completed, EPA will issue its final tolerance reassessment decision for bensulide, cadusafos, and chlorethoxyfos and may require further risk mitigation measures.

List of Subjects

Environmental protection, Chemicals, Pesticides and pests.

Dated: August 23, 2000.
Lois A. Rossi,
Director, Special Review and Reregistration Division, Office of Pesticide Programs.

[FR Doc. 00-22823 Filed 9-5-00; 8:45 am]

BILLING CODE 6560-50-S